FEDERAL COMMUNICATIONS COMMISSION

47 CFR Part 79

[CG Docket No. 05-231; FCC 16-17; FR ID 61580]

Closed Captioning of Video Programming; Telecommunications for the Deaf and Hard of Hearing Inc. Petition for Rulemaking

AGENCY: Federal Communications Commission.

ACTION: Correcting amendments.

SUMMARY: This document corrects a typographical error in the final rules portion of a Federal Register document published on September 14, 2021.

DATES: Effective December 13, 2021.

ADDRESSES: Federal Communications Commission, 45 L Street NE, Washington, DC 20554.

FOR FURTHER INFORMATION CONTACT: Michael Scott, Consumer and Governmental Affairs Bureau, (202) 418-1264, or email: Michael.Scott@fcc.gov.

SUPPLEMENTARY INFORMATION: This document corrects the final rules document published at 86 FR 51013, September 14, 2021.

List of Subjects in 47 CFR Part 79

Cable television operators, Communications equipment, Multichannel video programming distributors (MVPDs), Satellite television service providers.

Federal Communications Commission.
Katura Jackson,
Federal Register Liaison Officer.

Final Rules

Accordingly, 47 CFR part 79 is corrected by making the following correcting amendments:

PART 79—CLOSED CAPTIONING AND VIDEO DESCRIPTION OF VIDEO PROGRAMMING

1. The authority citation for part 79 continues to read as follows:

Authority: 47 U.S.C. 151, 152(a), 154(i), 303, 307, 309, 310, 330, 544a, 613, 617.

§ 79.1 [Amended]

2. Amend § 79.1 by revising paragraph (j)(1)(i)(A) to read as follows:

§ 79.1 Closed captioning of televised video programming.

* * * * *

(j) * * *

(1) * * *

(i) * * *

(A) That the video programmer's programming satisfies the caption quality standards of paragraph (j)(2) of this section;

* * * * *

[FR Doc. 2021-26871 Filed 12-10-21; 8:45 am]

BILLING CODE 6712-01-P